DEPARTMENT OF ENERGY

Federal Energy Regulatory Commission

Combined Notice of Filings #1

January 15, 2008.

Take notice that the Commission received the following electric corporate filings:

Docket Numbers: EC08-21-001.

Applicants: Northern Indiana Public Service Company.

Description: Supplement To The Application of Northern Indiana Public Service Company.

Filed Date: 01/09/2008.

Accession Number: 20080109-5154.

Comment Date: 5 p.m. Eastern Time on Tuesday, January 22, 2008.

Docket Numbers: EC08-35-000.

Applicants: Aircraft Services Corporation; Smoky Hills Wind Farm, LLC.

Description: Smoky Hills Wind Farm, LLC submits an application seeking authorization for the acquisition by TexKan Wind of Smoky, LLC.

Filed Date: 01/08/2008.

Accession Number: 20080110-0026.

Comment Date: 5 p.m. Eastern Time on Tuesday, January 29, 2008.

Take notice that the Commission received the following exempt wholesale generator filings:

Docket Numbers: EG08-30-000.

Applicants: Kelson Energy III LLC.

Description: Notice of Self-Certification of Exempt Wholesale Generator Status of Kelson Energy III LLC.

Filed Date: 01/14/2008.

Accession Number: 20080114-5083.

Comment Date: 5 p.m. Eastern Time on Monday, February 04, 2008.

Take notice that the Commission received the following electric rate filings:

Docket Numbers: ER96-1361-012; ER98-4138-008; ER99-2781-010; ER98-3096-014; ER01-202-007; ER00-1770-016; ER02-453-009; ER04-472-006; ER07-903-001; ER05-1054-002.

Applicants: Atlantic City Electric Company; Potomac Electric Power Company; Delmarva Power & Light Company; Pepco Energy Services, Inc; Potomac Power Resources, LLC; Conectiv Energy Supply, Inc.; Conectiv Atlantic Generation, LLC; Conectiv Delmarva Generation LLC; Conectiv Bethlehem, LLC; Fauquier Landfill Gas, LLC; Bethlehem Renewable Energy, LLC; Eastern Landfill Gas, LLC Description: Atlantic City Electric Co et al submit a Change of Status under FERC Order No. 652 & 18 CFR Section 35.27.

Filed Date: 01/10/2008.

Accession Number: 20080110-5086.

Comment Date: 5 p.m. Eastern Time on Thursday, January 31, 2008.

Docket Numbers: ER98-4159-010; ER04-268-007; ER06-398-004; ER06-399-004.

Applicants: Duquesne Light Company; Duquesne Power, L.P.; Duquesne Keystone, LLC; Duquesne Conemaugh, LLC.

Description: Notice of Affiliate Treatment for Purposes of Affiliate Restrictions in 18 CFR 35.39 of Duquesne Light Company, et al.

Filed Date: 01/09/2008.

Accession Number: 20080109-5111.

Comment Date: 5 p.m. Eastern Time on Wednesday, January 30, 2008.

Docket Numbers: ER99-1005-008.

Applicants: Kansas City Power & Light Company.

Description: Application to amend market-based rate tariff of Kansas City Power & Light Company.

Filed Date: 01/10/2008.

Accession Number: 20080114-0035.

Comment Date: 5 p.m. Eastern Time on Thursday, January 31, 2008.

Docket Numbers: ER05-1052-003.

Applicants: Southwest Power Pool, Inc.

Description: Southwest Power Pool Inc submits its refund report demonstrating its compliance with the refund directives of the October 4 Order.

Filed Date: 12/31/2007.

Accession Number: 20080102-0248.

Comment Date: 5 p.m. Eastern Time on Tuesday, January 22, 2008.

Docket Numbers: ER06-615-017; ER02-1656-035; ER07-1257-001; EL05-146-006; EL08-20-000.

Applicants: California Independent System Operator Corporation.

Description: California Independent System Operator Corp submits their instant filing, in compliance with FERC's 12/20/07 Order.

Filed Date: 12/28/2007.

Accession Number: 20080110-0206.

Comment Date: 5 p.m. Eastern Time on Friday, January 18, 2008.

Docket Numbers: ER07-546-010.

Applicants: ISO New England, Inc.

Description: EnerNOC's Request for Expedited Consideration and Limited Waiver of Qualification Process Reimbursement Deposit Due Date under Market Rule 1.

Filed Date: 01/11/2008.

Accession Number: 20080111-5073.

Comment Date: 5 p.m. Eastern Time on Tuesday, January 22, 2008.

Docket Numbers: ER07-1392-001.

Applicants: PacifiCorp.

Description: PacifiCorp submits First Revised Service Agreement 357 et al for Long-Term Firm Point-to-Point Transmission Service with PPM Energy Inc.

Filed Date: 01/09/2008.

Accession Number: 20080110-0109.

Comment Date: 5 p.m. Eastern Time on Wednesday, January 30, 2008.

Docket Numbers: ER08-40-002

Applicants: PJM Interconnection, L.L.C.

Description: PJM Interconnection, LLC responds to FERC's 12/10/07 deficiency letter re an executed interconnection service agreement with Conectiv Delmarva Generation et al.

Filed Date: 01/09/2008.

Accession Number: 20080110-0111.

Comment Date: 5 p.m. Eastern Time on Wednesday, January 30, 2008.

Docket Numbers: ER08-92-001.

Applicants: Virginia Electric and Power Company.

Description: Virginia Electric and Power Company dba Dominion Virginia Power submits its Responses to FERC Staff's 12/19/07 Deficiency Letter and on 1/11/08 submit an errata to this filing.

Filed Date: 01/10/2008; 01/11/08.

Accession Number: 20080114-0034.

Comment Date: 5 p.m. Eastern Time on Thursday, January 31, 2008.

Docket Numbers: ER08-129-001.

Applicants: Southern Operating Companies.

Description: Southern Company Services Inc agent for Alabama Power Co et al submits a form of notice of amendment in accordance with the questions posed by FERC.

Filed Date: 01/10/2008.

Accession Number: 20080114-0033.

Comment Date: 5 p.m. Eastern Time on Thursday, January 31, 2008.

Docket Numbers: ER08-212-001.

Applicants: NSTAR Electric Company.

Description: NSTAR Electric Company submits an executed Amendment 1 to the Interconnection Agreement, designated as Rate Schedule FERC 230, to become effective 1/13/08.

Filed Date: 01/09/2008.

Accession Number: 20080110-0008.

Comment Date: 5 p.m. Eastern Time on Wednesday, January 30, 2008.

Docket Numbers: ER08-314-001.

Applicants: Bicent (California) Malburg LLC.

Description: Bicent (California) Malburg LLC submits its 12/7/07 application for market-based rate authority etc.

Filed Date: 01/09/2008.

Accession Number: 20080110-0108.

Comment Date: 5 p.m. Eastern Time on Tuesday, January 22, 2008.

Docket Numbers: ER08-351-000.

Applicants: Edison Sault Electric Company.

Description: Edison Sault Electric Co submits Supplemental Agreement 10 to the contract with Clover land Electric Cooperative, Inc.

Filed Date: 12/19/2007.

Accession Number: 20071221-0158.

Comment Date: 5 p.m. Eastern Time on Wednesday, January 09, 2008.

Docket Numbers: ER08-428-000.

Applicants: Southern California Edison Company.

Description: Southern California Edison Company submits the Amended and Restated Cactus Avenue Wholesale Distribution Load Interconnection Facilities Agreement 100 with the City of Moreno Valley.

Filed Date: 01/08/2008.

Accession Number: 20080110-0007.

Comment Date: 5 p.m. Eastern Time on Tuesday, January 29, 2008.

Docket Numbers: ER08-429-000.

Applicants: Midwest Independent Transmission System Operator Inc.

Description: Midwest Independent Transmission System Op Inc. submits amended & restated large generator interconnection agreement, First Revised Service Agreement 1849 under its FERC Electric Tariff, Third Revised Volume 1.

Filed Date: 01/09/2008.

Accession Number: 20080110-0011.

Comment Date: 5 p.m. Eastern Time on Wednesday, January 30, 2008.

Docket Numbers: ER08-430-000.

Applicants: Public Service Company of New Mexico.

Description: Public Service Company of New Mexico submits an executed long-term firm point-to-point transmission service agreement with Aragone Wind LLC.

Filed Date: 01/09/2008.

Accession Number: 20080110-0009.

Comment Date: 5 p.m. Eastern Time on Wednesday, January 30, 2008.

Docket Numbers: ER08-431-000.

Applicants: American Electric Power Service Corporation.

Description: AEP Operating Companies submits fifth revision to the Interconnection and Local Delivery Agreement with the Blue Ridge Power Authority.

Filed Date: 01/09/2008.

Accession Number: 20080110-0010.

Comment Date: 5 p.m. Eastern Time on Wednesday, January 30, 2008.

Docket Numbers: ER08-432-000.

Applicants: Kentucky Power Company.

Description: Kentucky Power Company submits its Revised Sheet 10 et al to its FERC Electric Tariff 52.

Filed Date: 01/10/2008.

Accession Number: 20080114-0037.

Comment Date: 5 p.m. Eastern Time on Thursday, January 31, 2008.

Docket Numbers: ER08-433-000.

Applicants: Midwest Independent Transmission System.

Description: Midwest Independent Transmission System Operator Inc submits its Transmission to Transmission Interconnection Agreement among Hossier Energy Rural Electric Cooperative Inc et al.

Filed Date: 01/10/2008.

Accession Number: 20080114-0036.

Comment Date: 5 p.m. Eastern Time on Thursday, January 31, 2008.

Docket Numbers: ER08-434-000.

Applicants: Southern California Edison Company.

Description: Southern California Edison Company submits a revised rate sheet to the Amended and Restated Huntington Beach Generating Station Radial Lines Agreement with AES Huntington Beach LLC.

Filed Date: 01/11/2008.

Accession Number: 20080114-0032.

Comment Date: 5 p.m. Eastern Time on Friday, February 01, 2008.

Docket Numbers: ER08-435-000.

Applicants: Midwest Independent Transmission System Operator, Inc.

Description: Midwest Independent Transmission System Operator Inc submits proposed revisions to its Open Access Transmission and Energy Markets Tariff.

Filed Date: 01/11/2008.

Accession Number: 20080114-0031.

Comment Date: 5 p.m. Eastern Time on Friday, February 01, 2008.

Docket Numbers: ER08-436-000.

Applicants: Mirant Power Purchase, LLC.

Description: Mirant Power Purchase, LLC submits a notice of cancellation of FERC Electric Tariff, Original Volume 1, effective 3/9/06.

Filed Date: 01/11/2008.

Accession Number: 20080114-0408.

Comment Date: 5 p.m. Eastern Time on Friday, February 01, 2008.

Docket Numbers: ER08-437-000.

Applicants: Mountainview Power Company LLC.

Description: Mountainview Power Company, LLC submits support for an updated cost of capital for use in billings under the Power Purchase Agreement with Southern California Edison Co, effective 1/1/08.

Filed Date: 01/11/2008.

Accession Number: 20080114-0418.

Comment Date: 5 p.m. Eastern Time on Friday, February 01, 2008.

Take notice that the Commission received the following electric securities filings:

Docket Numbers: ES08-24-000.

Applicants: Startrans IO, L.L.C.

Description: Startrans IO, LLC's Application Under Section 204 of the Federal Power Act For Authority To Issue Securities and Request for Expedited Consideration.

Filed Date: 01/11/2008.

Accession Number: 20080111-5052.

Comment Date: 5 p.m. Eastern Time on Friday, February 01, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-1154 Filed 1-23-08; 8:45 am]

BILLING CODE 6717-01-P